DEPARTMENT OF COMMERCE

National Oceanic and Atmospheric Administration

RIN 0648-XC34

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Dogfish Monitoring Committee will hold a public meeting.

DATES: The meeting will be held on Wednesday, September 19, 2007, from 10 a.m. to 4 p.m.

ADDRESSES: The meeting will be held at the Sheraton Providence Airport Hotel, 1850 Post Rd., Warwick, RI 02886; telephone: (401) 738-4000.

Council address: Mid-Atlantic Fishery Management Council; 300 S. New Street, Room 2115, Dover, DE 19904, telephone: (302) 674-2331.

FOR FURTHER INFORMATION CONTACT: Daniel T. Furlong, Executive Director, Mid-Atlantic Fishery Management Council; 300 S. New Street, Room 2115, Dover, DE 19904; telephone: (302) 674-2331, extension 19.

SUPPLEMENTARY INFORMATION: The purpose of this meeting is to consider the appropriateness of making changes, if any, to management measures currently in place for the upcoming (2008-09) fishing year for spiny dogfish. Management measures that will be discussed will include, but will not necessarily be limited to, quotas and daily landings limits.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Bryan at the Mid-Atlantic Council Office, (302) 674-2331 extension 18, at least 5 days prior to the meeting date.

Dated: August 28, 2007.
Tracey L. Thompson,
Acting Director, Office of Sustainable Fisheries, National Marine Fisheries Service.

[FR Doc. E7-17379 Filed 8-31-07; 8:45 am]

BILLING CODE 3510-22-S